NUCLEAR REGULATORY COMMISSION

Notice of Issuance of Regulatory Guide

AGENCY: Nuclear Regulatory Commission.

ACTION: Notice of Issuance and Availability of Regulatory Guide 10.7, Revision 2.

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 10.7, “Guide for the Preparation of Applications for Licenses for Laboratory and Industrial Use of Small Quantities of Byproduct Material,” was issued with a temporary identification as Draft Regulatory Guide, DG-0017. This guide directs the reader to the type of information needed by the NRC staff to evaluate an application for a specific license for laboratories and industries to use megabecquerel (MBq) (millicurie (mCi)) quantities of byproduct material (reactor- or accelerator-produced radionuclides).

The regulatory framework that the NRC has established for laboratory and industrial use of small quantities of byproduct material is in Title 10, Part 30, “Rules of General Applicability to Domestic Licensing of Byproduct Material,” of the Code of Federal Regulations (10 CFR part 30).

This regulatory guide endorses the methods and procedures for applying for a license for laboratory and industrial use of small quantities of byproduct material contained in the current revisions of NUREG-1556, Volume 7, “Consolidated Guidance About Materials Licenses: Program-Specific Guidance About Academic, Research and Development, and Other Licenses of Limited Scope” and NUREG-1556, Volume 12, “Consolidated Guidance about Material Licenses: Program-Specific Guidance About Possession and Licenses for Manufacturing and Distribution,” as a process that the NRC staff finds acceptable.

II. Further Information

In April 2008, DG-0017 was published with a public comment period of 60 days from the issuance of the guide. No comments were received and the public comment period closed on June 30, 2008. Electronic copies of Regulatory Guide 10.7, Revision 2 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 18th day of September, 2008.
For the Nuclear Regulatory Commission.
Stephen C. O'Connor,
Acting Chief, Regulatory Guide Development Branch, Division of Engineering, Office of Nuclear Regulatory Research.

[FR Doc. E8-22532 Filed 9-24-08; 8:45 am]

BILLING CODE 7590-01-P